DEPARTMENT OF HEALTH AND HUMAN SERVICES

Centers for Disease Control and Prevention

[30 Day-17-1128]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agency's estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

State Unintentional Drug Overdose Reporting System (SUDORS) (OMB Control Number 0920-1128, exp. 8/31/2018)—Revision—National Center for Injury Prevention and Control (NCIPC), Centers for Disease Control and Prevention (CDC).

Background and Brief Description

In 2013, there were nearly 44,000 drug overdose deaths, including nearly 36,000 unintentional drug overdose deaths, in the United States. More people are now dying of drug overdose than automobile crashes in the US. A major driver of the problem are overdoses related to opioids, both opioid pain relievers (OPRs) and illicit forms such as heroin. In order to address this public health problem, the U.S. Department of Health and Human Services (HHS) has made addressing the opioid abuse problem a high priority.

In order to support targeting of drug overdose prevention efforts, detect new trends in fatal unintentional drug overdoses, and assess the progress of HHS's initiative to reduce opioid abuse and overdoses, the State Unintentional Drug Overdose Reporting System (SUDORS) conducts ongoing surveillance of fatal unintentional opioid-related drug overdoses to support prevention and response efforts in states with a high burden of opioid-related overdoses. This collection generates public health surveillance information on unintentional fatal opioid-related drug overdoses at the national, state, and local levels that is more detailed, useful, and timely than is currently available. This information will help develop, inform, and assess the progress of drug overdose prevention strategies at the national, state, and local levels.

SUDORS will collect information that is not currently collected on death certificates such as whether the drug(s) causing the overdoses were injected or taken orally, a toxicology report on the decedent, if available, and risk factors for fatal drug overdoses including previous drug overdoses, decedent's mental health, and whether the decedent recently exited a treatment program. Without this information, drug overdose efforts are often based on limited information available on the death certificate and anecdotal evidence.

CDC is expanding the state opioid surveillance program to include additional states. In fiscal year 2016, CDC was appropriated funds to work with state health departments to improve the timeliness of fatal opioid overdose surveillance by developing the Enhanced State Opioid Overdose Surveillance program (ESOOS), with 16 states originally approved. ESOOS provides states a delivery schedule for reporting fatal opioid overdoses to CDC using SUDORS. In fiscal year 2017, ESOOS received a significant increase in funding through congressional appropriation to expand the number of states using the SUDORS OMB package for mortality data collection. The next data delivery will occur in October 2017. As a result, CDC now requests OMB approval for three years for this revision to include all 50 states.

The purpose of the revision is twofold: (1) Increase burden hours associated with increasing the number of states using the SUDORS OMB package from the 16 approved to all 50 states; and (2) implement updates to the web-based system to improve performance, functionality, and accessibility as well as minimal revisions to the SUDORS collection instrument. Minimal changes to the SUDORS module include revisions to question wording and response choices, as well as additional categories available to capture information that previously could only be captured in a narrative field, to better capture contextual information such as day/time a decedent was last seen alive, whether a decedent had a recent opioid use relapse, evidence of prescription drug use, and evidence of rapid overdose. These changes would not affect burden hours per response, the increase in burden hours is associated with increasing the number of states using the SUDORS OMB package from the 16 approved to all 50 states.

Participation is based on secondary data and is dependent on separate data collection efforts in each state managed by the state health departments or their bona fide agent. The estimated annual burden hours are 16,550 with an increase of 9,542 burden hours from the previously approved collection. There are no costs to respondents.

Estimated Annualized Burden Hours
Type of respondent | Form name | Number of respondents | Total number of responses per respondent | Average burden per response (in hours) | Total burden hours (in hours)
Public Agencies | Retrieving and refile records | 50 | 662 | 30/60 | 16,550
Total |  |  |  |  | 16,550

Leroy Richardson,
Chief, Information Collection Review Office, Office of Scientific Integrity, Office of the Associate Director for Science, Office of the Director, Centers for Disease Control and Prevention.

[FR Doc. 2017-15671 Filed 7-25-17; 8:45 am]

BILLING CODE 4163-18-P